DEPARTMENT OF THE INTERIOR

National Park Service

National Register of Historic Places; Notification of Pending Nominations and Related Actions

Nominations for the following properties being considered for listing or related actions in the National Register were received by the National Park Service before March 28, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by April 30, 2009.

J. Paul Loether,
Chief, National Register of Historic Places/National Historic Landmarks Program.

ARKANSAS

Cleburne County

Heber Springs Commercial Historic District, 100, 200 blocks E. Main St., 100-500 blocks of W. Main St., 100 block of N. and S. 3rd and N. and S. 4th Sts., Heber Springs, 09000266

COLORADO

San Miguel County

Lewis Mill, (Mining Industry in Colorado, MPS), 3.5 mi. SE. of Telluride at the head of Bridal Veil Basin, Telluride, 09000267

GEORGIA

Dawson County

Gilleland, Boyd and Sallie, House, 3 Shepard's Ln., Dawsonville, 09000268

Fulton County

Ellis, Rutherford and Martha, House, 543 W. Wesley Rd., NW., Atlanta, 09000269

Muscogee County

Thomas, Alma, House, 411 21st St., Columbus, 09000270

Rockdale County

Parker, Aaron and Margaret, Jr., House, 4835 Flat Bridge Rd., SW., Stockbridge, 09000271

IOWA

Polk County

Clemens Automobile Company Building, 200 10th St., Des Moines, 09000272

National Biscuit Company Building, 1001 Cherry St., Des Moines, 09000273

KANSAS

Leavenworth County

Leavenworth Terminal Railway & Bridge Company Freight Depot, (Railroad Resources of Kansas MPS), 306 S. 7th St., Leavenworth, 09000274

Marion County

Florence Water Tower, 525 W. 5th St., E. of US 77 at jct. US 50 & 77, Florence, 09000275

Sedgwick County

Ablah, Frank J. and Harvey J., House, (Residential Resources of Wichita, Sedgwick County, Kansas 1870-1957), 102-104 N. Pinecrest Ave., Wichita, 09000276

North Topeka Avenue Apartments Historic District, (Residential Resources of Wichita, Sedgwick County, Kansas 1870-1957), 625, 630, 631, and 632 N. Topeka Ave., Wichita, 09000277

Wilkie, Grace, House, 4230 E. English St., Wichita, 09000278

KENTUCKY

Barren County

Jewell Site Complex, Address Restricted, Glasgow, 09000279

MASSACHUSETTS

Essex County

North Canal Historic District (Boundary Increase), Roughly bounded by the Merrimack and Spicket rivers, North Canal, and Broadway, Lawrence, 09000280

MISSOURI

Greene County

Springfield Public Square Historic District (Boundary Increase), (Springfield MPS), E. side Public Square, part of the 300 block Park Central E., N. side of 200 block of W. Olive, Springfield, 09000281

St. Louis Independent City, Gill, William A., Building, 622 Olive St., St. Louis, 09000282

NEVADA

Clark County

“Welcome to Fabulous Las Vegas” Sign, The, Las Vegas Blvd., in public right of way, approx. .5 mi. S. of intersection with Russell Rd., Paradise Township, 09000284

Lorenzi Park, 3333 W. Washington, Las Vegas, 09000283

NEW YORK

Chautauqua County

Dunkirk Schooner Site, Address Restricted, Dunkirk, 09000285

Herkimer County

Holy Trinity Monastery, 1407 Robinson Rd., Jordanville, 09000286

Niagara County

House at 8 Berkley Drive, 8 Berkley Dr., Lockport, 09000287

NORTH CAROLINA

Cleveland County

Margrace Mill Village Historic District, 101-117, 102-120 Cloninger St., 101-113, 102-116, 200 Fulton Dr., 145 Ark St., 101-107, 102-114 Water Oak St., Kings Mountain, 09000288

Davie County

Barnhardt, George E., House, 291 Hartley Rd., Mocksville, 09000289

Wilkes County

Downtown Wilkesboro Historic District, (Wilkesboro MRA), Bounded roughly by Cowles and Corporation Sts., Henderson Dr., and Woodland Blvd., Wilkesboro, 09000290

Request for REMOVAL has been made for the following resources:

KANSAS

Dickinson County

Saint Patrick's Mission Church and School, NE. of Chapman, Chapman, 87888983

MISSOURI

St. Louis County

Olive Street Terra Cotta District, 600-622 Olive St., St. Louis, 86006

[FR Doc. E9-8567 Filed 4-14-09; 8:45 am]

BILLING CODE